DEPARTMENT OF COMMERCE

Foreign-Trade Zones Board

[Order No. 1726]

Reorganization of Foreign-Trade Zone 138 Under Alternative Site Framework, Columbus, OH, Area

Pursuant to its authority under the Foreign-Trade Zones Act of June 18, 1934, as amended (19 U.S.C. 81a-81u), the Foreign-Trade Zones Board (the Board) adopts the following Order:

Whereas, the Board adopted the alternative site framework (ASF) in December 2008 (74 FR 1170, 01/12/09; correction 74 FR 3987, 01/22/09) as an option for the establishment or reorganization of general-purpose zones;

Whereas, Columbus Regional Airport Authority, grantee of Foreign-Trade Zone 138, submitted an application to the Board (FTZ Docket 46-2010, filed 7/21/2010, amended 10/6/2010) for authority to reorganize under the ASF with a service area of Champaign, Clark, Coshocton, Crawford, Delaware, Fairfield, Franklin, Hocking, Knox, Licking, Logan, Madison, Marion, Morrow, Muskingum, Perry, Pickaway, Pike, Ross, Union, Vinton and Wyandot Counties, as well as portions of Guernsey, Athens and Highland Counties, Ohio, adjacent to the Columbus Customs and Border Protection port of entry, FTZ 138's existing Sites 1, 2, 4, 5, 6, and 15 would be categorized as magnet sites, and FTZ 138's existing Sites 13, 14, 16, 17, and 18 would be categorized as usage-driven sites;

Whereas, notice inviting public comment was given in the Federal Register (75 FR 45096-45097, 8/2/2010) and the application has been processed pursuant to the FTZ Act and the Board's regulations; and,

Whereas, the Board adopts the findings and recommendations of the examiner's report, and finds that the requirements of the FTZ Act and Board's regulations are satisfied, and that the proposal is in the public interest;

Now, therefore, the Board hereby orders:

The application to reorganize FTZ 138 under the alternative site framework is approved, subject to the FTZ Act and the Board's regulations, including Section 400.28, to the Board's standard 2,000-acre activation limit for the overall general-purpose zone project, to a five-year ASF sunset provision for magnet sites that would terminate authority for Sites 2, 4, 5, 6, and 15, on November 30, 2015 and to a three-year ASF sunset provision for usage-driven sites that would terminate authority for Sites 13, 14, 16, 17, and 18 if no foreign-status merchandise is admitted for a bona fide customs purpose by November 30, 2013.

Signed at Washington, DC, this 26th day of November 2010.
Ronald K. Lorentzen,
Deputy Assistant Secretary for Import Administration, Alternate Chairman, Foreign-Trade Zones Board.
Andrew McGilvray,
Executive Secretary.

[FR Doc. 2010-30665 Filed 12-6-10; 8:45 am]

BILLING CODE P